DEPARTMENT OF AGRICULTURE

Food and Nutrition Service

Agency Information Collection Activities: Proposed Collection; Comment Request—Summer Food Service Program

AGENCY: Food and Nutrition Service (FNS), Agriculture (USDA).

ACTION: Notice.

SUMMARY: In accordance with the Paperwork Reduction Act of 1995, this notice invites the general public and other public agencies to comment on the Agency's proposed revision to the currently approved information collection for the Summer Food Service Program (SFSP). FNS uses this collection to obtain account and record information from State and program operators that is necessary to effectively manage the SFSP and ensure compliance with statutory and regulatory Program requirements.

DATES: Written comments must be received on or before September 21, 2021.

ADDRESSES: Comments may be sent to Megan Geiger, Community Meals Program Monitoring Branch, Program Monitoring and Operational Support Division, Child Nutrition Programs, Food and Nutrition Service, U.S. Department of Agriculture, 1320 Braddock Place, Alexandria, VA 22314. Comments may also be submitted via email to megan.geiger@usda.gov. Comments will also be accepted through the Federal eRulemaking Portal. Go to http://www.regulations.gov, and follow the online instructions for submitting comments electronically.

All responses to this notice will be summarized and included in the request for Office of Management and Budget (OMB) approval. All comments will also become a matter of public record.

FOR FURTHER INFORMATION CONTACT: Requests for additional information or copies of this information collection should be directed to Megan Geiger, Community Meals Program Monitoring Branch, Program Monitoring and Operational Support Division, Child Nutrition Programs, Food and Nutrition Service, U.S. Department of Agriculture, at 703-605-3223 or via email to megan.geiger@usda.gov.

SUPPLEMENTARY INFORMATION: Comments are invited on: (1) Whether the proposed collection of information is necessary for the proper performance of the Agency's functions, including whether the information will have practical utility; (2) the accuracy of the Agency's estimate of the proposed information collection burden, including the validity of the methodology and assumptions used; (3) ways to enhance the quality, utility and clarity of the information to be collected; and (4) ways to minimize the burden of the collection of information on those who are to respond, including use of appropriate automated, electronic, mechanical, or other technological collection techniques or other forms of information technology.

Title: 7 CFR part 225, Summer Food Service Program.

OMB Number: 0584-0280.

Expiration Date: December 31, 2022.

Type of Request: Revision of a currently approved collection.

Abstract: The Summer Food Service Program (SFSP) is authorized under section 13 of the Richard B. Russell National School Lunch Act (NSLA) (42 U.S.C. 1761). The Program is directed toward children in low-income areas when school is not in session and is administered by FNS in partnership with State agencies and local program sponsors. Approved sponsors may include public or private non-profit school food authorities (SFAs), public or private non-profit residential summer camps, units of local, municipal, county or State governments, or other private non-profit organizations that develop a special summer program and provide meal service similar to that available to children during the school year under the National School Lunch Program and the School Breakfast Program. Collection of information is required to administer and operate SFSP in accordance with the NSLA.

FNS will seek approval by the Office of Management and Budget (OMB) to revise the reporting burden in the information collection for the SFSP under OMB Control Number 0584-0280 to include two existing monitoring requirements that were omitted in previous ICRs. Under current regulations, sponsors are required to visit each of their sites at least once during the first week of operation under the program (7 CFR 225.15(d)(2)), and to conduct a full review of food service operations at each site within the first four weeks of operation ((7 CFR 225.15(d)(3)). The burden associated with these existing monitoring requirements was overlooked in previous ICRs and has not yet been approved under the Paperwork Reduction Act. This revision corrects these omissions. In addition, FNS is taking this opportunity to correct rounding errors in the total estimated burden hours currently approved for the collection.

FNS estimates that each of the 5,524 sponsors that participate in SFSP (3,314 local and tribal government sponsors, and 2,210 business sponsors) complete, on average, nine first week site visit reports and nine food service reviews annually, for a total of 99,432 responses. In addition, FNS estimates that the average number of burden hours per response is 30 minutes (0.50 hours) for first week site visits, and two hours for food service reviews, resulting in an estimated total of 124,290 additional burden hours annually (5,524 × 9 × 2.5). As a result of program adjustments for these two monitoring requirements, the reporting burden associated with this collection increases from 328,870 hours and 185,884 responses to 453,160 hours and 285,316 responses. These adjustments do not affect the currently approved recordkeeping and public disclosure burdens.

Furthermore, in preparation for this ICR, FNS discovered erroneous rounding errors in the burden chart submitted as part of the previous renewal request, which resulted in an additional two hours to the total burden estimate for the collection. During that renewal, which was approved by OMB on December 2, 2019, the total public disclosure burden was entered as 1,395 hours when it should have more accurately been rounded to 1,394 hours. In addition, the total burden hours estimate for the collection was rounded up an additional hour when it should have been rounded down. Because of these two rounding errors, current OMB inventory for this collection totals 338,411 hours rather than the more accurate total of 338,409 hours.

As a result of the program adjustments subject to this notice, due to the addition of previously omitted reporting requirements, as well as the administrative adjustment for rounding errors, FNS estimates the revised total burden for the collection to increase by 124,288 hours (124,290 for the two monitoring requirements−2 to correct rounding errors) and 99,432 responses, to a total of 462,699 hours and 391,795 responses. The adjusted average burden per response and the annual burden hours for reporting, recordkeeping, and public disclosure are explained below and summarized in the charts that follow. The charts reflect the changes in reporting burden at the State/Local/Tribal Government and Business Sponsors levels and the correction of rounding errors in the public disclosure burden. No changes were made in the recordkeeping burden.

Affected Public: State, Local, or Tribal Governments and Businesses or Other For Profit, or Not for Profit. Respondent groups identified include State Agencies and local, tribal, and business sponsors.

Estimated Number of Respondents: 63,942.

Estimated Number of Responses per Respondent: 6.13.

Estimated Total Annual Responses: 391,795.

Estimated Time per Response: 1.18.

Estimated Total Annual Burden: 462,699.

Current OMB Inventory: 338,411.

Difference (Burden Revisions Requested): 124,288.

Refer to the table below for estimated total annual burden for each type of respondent.

Affected public | Est. number of responses | Number of responses per respondent | Total annual responses (records) | Est. total hours per response | Est. total burden
Reporting (addition of previously omitted requirements)
Requirement/Activity: 225.15(d)(2) Sponsors must conduct a site visit during the first two weeks of operation under the program for new sites, sites with operational problems, and any site where the SA deems a visit is necessary.
State/Local/Tribal Government Level (sponsors) | 3,314 | 9 | 29,826 | 0.50 | 14,913
Requirement/Activity: 225.15(d)(3) Sponsors must conduct food service reviews for all sites within the first month of starting operations, and thereafter maintain a reasonable level of monitoring.
State/Local/Tribal Government Level (sponsors) | 3,314 | 9 | 29,826 | 2 | 59,652
State/Local/Tribal Government Level (sponsors) Total | 3,314 | 18 | 59,652 | 1.25 | 74,565
Requirement/Activity: 225.15(d)(2) Sponsors must conduct a site visit during the first two weeks of operation under the program for new sites, sites with operational problems, and any site where the SA deems a visit is necessary.
Business Sponsors Level | 2,210 | 9 | 19,890 | 0.50 | 9,945
Requirement/Activity: 225.15(d)(3) Sponsors must conduct food service reviews for all sites within the first month of starting operations, and thereafter maintain a reasonable level of monitoring.
Business Sponsors Level | 2,210 | 9 | 19,890 | 2 | 39,780
Business Sponsors Level Total | 2,210 | 18 | 39,780 | 1.25 | 49,725
Total Change in Reporting Burden | 5,524 | 18 | 99,432 | 1.25 | 124,290
Public Disclosure (correction of rounding errors)
Requirement/Activity: 225.15(e) Per policy guidance, State agency can issue a media release on behalf of the sponsor.
State/Local/Tribal Government Level | 53 | 1 | 53 | 0.25 | 13.25
Requirement/Activity: 225.15(e) Each sponsor shall annually announce in the media serving the area from which it draws its attendance the availability of free meals.
State/Local/Tribal Government Level | 3,314 | 1 | 3,314 | 0.25 | 828.50
State/Local/Tribal Government Level Total | 3,367 | 1 | 3,367 | 0.25 | 841.75
Requirement/Activity: 225.15(e) Each sponsor shall annually announce in the media serving the area from which it draws its attendance the availability of free meals.
Business Sponsors Level Total | 2,210 | 1 | 2,210 | 0.25 | 552.50
Estimated Public Disclosure Burden Total | 5,577 | 1 | 5,577 | 0.25 | 1,394.25

Total Burden for SFSP | Total Burden for SFSP: Est. number of respondents | Total Burden for SFSP: Number of responses per respondent | Total Burden for SFSP: Total annual responses | Total Burden for SFSP: Est. total hours per response | Total Burden for SFSP: Est. total burden
Reporting (with changes) | 63,942 | 4.46 | 285,316 | 1.59 | 453,159.55
Recordkeeping (no change) | 5,577 | 18.09 | 100,902 | 0.08 | 8,145.42
Public Disclosure (with changes) | 5,577 | 1 | 5,577 | 0.25 | 1,394.25
Total Burden for SFSP | 63,942 | 6.13 | 391,795 | 1.181 | 462,699.22

Tameka Owens,
Acting Administrator, Food and Nutrition Service.

[FR Doc. 2021-15679 Filed 7-22-21; 8:45 am]

BILLING CODE 3410-30-P